DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its 61st meeting.

Name: National Advisory Committee on Rural Health and Human Services.

Dates and Times: February 18, 2009, 1 p.m.-5:15 p.m. February 19, 2009, 9 a.m.-3:15 p.m. February 20, 2009, 8:45 a.m.-10:30 a.m.

Place: The Sofitel Lafayette Square, 806 15th Street, NW., Washington, DC 20005, Phone: 202-730-8800.

Status: The meeting will be open to the public.

Purpose: The National Advisory Committee on Rural Health and Human Services provides advice and recommendations to the Secretary with respect to the delivery, research, development and administration of health and human services in rural areas.

Agenda: Wednesday afternoon, February 18, at 1 p.m., the meeting will be called to order by the Chairperson of the Committee, the Honorable David Beasley and the Vice Chairperson, the Honorable Larry Otis. Following a formal welcome by a representative of Health and Human Services, the 2009 Report to the Secretary will be voted on for approval. The first presentation will be an introduction of the 2010 topics and a review of the Work Plan by Jennifer Chang, Executive Secretary of the Committee. The first session will be Health Provider Integration. The next session will be HHS Role and Health. The final session of the day will be a panel on Primary Care, Key Provider Groups. The Wednesday meeting will close at 5:15 p.m.

Thursday morning, February 19, at 9 a.m., the Committee will open with a discussion on the 2010 topics. The morning sessions will be Home-Based Options for Rural Seniors and Health Care Provider Integration. The afternoon session will be Partner Perspectives on the chosen topics. Following these sessions, subcommittees will be selected. The formal meeting for Thursday will close at 3:15 p.m. After the close of the formal meeting, Subcommittees will meet to begin developing an outline of the chosen topics.

The final session will be convened Friday morning, February 20, at 8:45 a.m. There will be a review of the subcommittee meetings and action items will be developed for the Committee members and staff. The Committee will draft the letter to the Secretary and discuss the June meeting. The meeting will adjourn at 10:15 a.m.

FOR FURTHER INFORMATION CONTACT: Anyone requiring information regarding the Committee should contact Jennifer Chang, MPH, Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray Gibson, Office of Rural Health Policy (ORHP), Telephone (301) 443-0835. The Committee meeting agenda will be posted on ORHP's Web site http://www.ruralhealth.hrsa.gov.

Dated: January 21, 2009.
Alexandra Huttinger,
Director, Division of Policy Review and Coordination.

[FR Doc. E9-1735 Filed 1-27-09; 8:45 am]

BILLING CODE 4165-15-P